DEPARTMENT OF HOMELAND SECURITY

U.S. Customs and Border Protection

Notice of Revocation of Customs Brokers' Licenses; Correction

AGENCY: U.S. Customs and Border Protection, Department of Homeland Security.

ACTION: Revocation of customs brokers' licenses; correction.

SUMMARY: This document corrects twelve errors in the list of customs brokers' licenses revoked by operation of law, without prejudice, for failure to file a triennial status report that U.S. Customs and Border Protection (CBP) published in the Federal Register on January 6, 2016. The twelve errors consist of nine omissions and three erroneous revocations.

DATES: This correction is effective on August 10, 2016.

FOR FURTHER INFORMATION CONTACT: Julia D. Peterson, Branch Chief, Broker Management, Office of Trade, (202) 863-6601, julia.peterson@cbp.dhs.gov.

SUPPLEMENTARY INFORMATION:

Background

Pursuant to section 641 of the Tariff Act of 1930, as amended, (19 U.S.C. 1641) and section 111.30(d) of title 19 of the Code of Federal Regulations (19 CFR 111.30(d)), a customs broker's license will be revoked by operation of law, without prejudice, for failure to file a triennial status report. On January 6, 2016, U.S. Customs and Border Protection (CBP) published in the Federal Register (81 FR 498) a list of customs brokers' licenses revoked under 19 CFR 111.30(d) in alphabetical order by name with the names grouped according to the ports of issuance. That document contained twelve (12) errors in the list of revoked customs brokers' licenses. Specifically, nine (9) customs brokers' names were omitted from the list of revoked customs brokers' licenses and three (3) customs brokers' names were erroneously included in the list of revoked customs brokers' licenses. This correction is being issued to identify the omitted customs brokers whose licenses were revoked by operation of law, without prejudice, for failure to file a triennial status report, and to identify the customs brokers whose licenses were erroneously revoked and have been reinstated.

Correction

In the Federal Register of January 6, 2016, in the document at 81 FR 498:

Beginning on page 498, in the list of revoked customs broker licenses, add the entries for the following nine (9) customs brokers in alphabetical order by name and grouped according to the ports of issuance:

Anderson | Jamie L. | 20454 | Anchorage.
Anderson | Kirk | 23689 | Minneapolis.
Anderson | Steven J | 13365 | Minneapolis.
Braun | Holly | 11508 | Minneapolis.
Franzen | Steve | 16626 | Minneapolis.
Nielsen | Kelli | 20185 | Minneapolis.
Runeberg | Diane | 10162 | Minneapolis.
Senn | Ronald | 06226 | Minneapolis.
Stromgren | Linda | 06237 | Minneapolis.

Also on page 498, remove the entry for the following customs broker:

Godfrey | Kimberly | 12089 | Atlanta.

On page 504, remove the entry for the following customs brokers:

Tolbert | Shawn | 12568 | Savannah.
Wallace | Laura | 20785 | Washington, DC.

Dated: August 2, 2016.
Brenda B. Smith,
Executive Assistant Commissioner, Office of Trade.

[FR Doc. 2016-18926 Filed 8-9-16; 8:45 am]

BILLING CODE 9111-14-P